DEPARTMENT OF TRANSPORTATION

Federal Motor Carrier Safety Administration

[Docket No. FMCSA-2012-0031]

Agency Information Collection Activities; Extension of Currently-Approved Information Collection Request: Quarterly Report of Class I Motor Carriers of Property (Formerly OMB 2139-0002)

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. FMCSA requests approval to revise an ICR entitled, “Quarterly Report of Class I Motor Carriers of Property (formerly OMB 2139-0002),” which the Agency uses to ensure that motor carriers comply with its financial and operating statistics requirements in chapter III of title 49 CFR part 369 entitled, “Reports of Motor Carriers.” FMCSA invites public comment on this ICR. On April 20, 2012, FMCSA published a Federal Register notice allowing for a 60-day comment period on the ICR. In response to the above notice, the Agency received one comment from the National Motor Freight Traffic Association, Inc. (NMFTA), which requested that these reports no longer be required. FMCSA may consider this request in a future rulemaking regarding this information collection requirement.

DATES: Please send your comments by October 17, 2012. OMB must receive your comments by this date in order to act quickly on the ICR.

ADDRESSES: All comments should reference Federal Docket Management System (FDMS) Docket Number FMCSA-2012-0031. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Ms. Vivian Oliver, Transportation Specialist, Office of Information Technology, Operations Division, Department of Transportation, Federal Motor Carrier Safety Administration, West Building 6th Floor, 1200 New Jersey Avenue SE., Washington, DC 20590. Telephone: 202-366-2974; email Address: vivian.oliver@dot.gov. Office hours are from 9 a.m. to 5 p.m., Monday through Friday, except Federal holidays.

SUPPLEMENTARY INFORMATION: Title: Quarterly Report of Class I and Class II Motor Carriers of Property (formerly OMB 2139-0002).

OMB Control Number: 2126-0033.

Type of Request: Extension of a currently-approved information collection.

Respondents: Class I and Class II Motor Carriers of Property.

Estimated Number of Respondents: 111 (per year).

Estimated Time per Response: 1.8 hours (27 minutes per quarter).

Expiration Date: September 30, 2012.

Frequency of Response: Quarterly.

Estimated Total Annual Burden: 200 hours [111 respondents x 1.8 hours to complete form = 200].

Background: The Quarterly Report of Class I and Class II Motor Carriers of Property (Form QFR) is a mandated reporting requirement for all for-hire motor carriers (See 49 U.S.C. § 14123 and implementing FMCSA regulations in 49 CFR part 369). Motor carriers (including interstate and intrastate) subject to the Federal Motor Carrier Safety Regulations are classified on the basis of their gross carrier operating revenues.¹

¹ For purposes of the Financial and Operating Statistics (F&OS) program, carriers are classified into three groups: (1) Class I carriers are those having annual carrier operating revenues (including interstate and intrastate) of $10 million or more after applying the revenue deflator formula as set forth in Note A of 49 CFR § 369.2; (2) Class II carriers are those having annual carrier operating revenues (including interstate and intrastate) of at least $3 million, but less than $10 million after applying the revenue deflator formula as set forth in 49 CFR § 369.2; and (3) Class III carriers are those having annual carrier operating revenues (including interstate and intrastate) of less than $3 million after applying the revenue deflator formula as set forth in Note A of 49 CFR § 369.2.

Under the Financial and Operating Statistics (F&OS) program, FMCSA collects balance sheet and income statement data from Class I and Class II property carriers along with information on safety needs, tonnage, mileage, employees, transportation equipment, and other related data. FMCSA may also ask carriers to respond to surveys concerning their operations. The data and information collected would be made publicly available, and FMCSA would use both to determine a motor carrier's compliance with the F&OS program requirements prescribed in chapter III of title of 49 CFR part 369.

In the past, the former Interstate Commerce Commission issued these regulations. Later this authority transferred to the Secretary on January 1, 1996, by Chapter 141 of the ICC Termination Act of 1995 (ICCTA) (Pub. L. 104-88, 109 Stat. 803, 893 (Dec. 29, 1995)), now codified at 49 U.S.C. 14123. On September 30, 1998, the Secretary delegated and transferred the authority to administer the F&OS program to the former Bureau of Transportation Statistics (BTS), now part of the Research and Innovative Technology Administration (RITA).

On September 29, 2004, the Secretary transferred the responsibility for the F&OS program from BTS to FMCSA in the belief that the program was more aligned with FMCSA's mission and its other motor carrier responsibilities (69 FR 51009). On August 10, 2006, the Secretary published a final rule (71 FR 45740) that transferred and redesignated certain motor carrier financial and statistical reporting regulations of BTS, that were formerly located in chapter XI, subchapter B of title 49 CFR part 1420, to FMCSA under chapter III of title 49 CFR part 369.

Public Comments Invited: FMCSA requests comments on any aspect of this information collection, including: (1) Whether the proposed collection is necessary for FMCSA to perform its functions; (2) the accuracy of the estimated burden; (3) ways for FMCSA to enhance the quality, usefulness, and clarity of the collected information; and (4) ways that the burden could be minimized without reducing the quality of the collected information.

Issued on: September 4, 2012.
Kelly Leone,
Associate Administrator for Office of Research and Information Technology.

[FR Doc. 2012-22884 Filed 9-14-12; 8:45 am]

BILLING CODE 4910-EX-P